DEPARTMENT OF THE TREASURY

Submission for OMB Review; Comment Request

February 28, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 7, 2005 to be assured of consideration.

Internal Revenue Service (IRS)

OMB Number: 1545-1483.

Form Number: IRS Form W-7.

Type of Review: Revision.

Title: Application for IRS Individual Taxpayer Identification Number.

Description: Regulations under IRC section 6109 provide for a type of taxpayer identifying number called the “IRS individual taxpayer identification number” (ITIN). Individuals who currently do not have, and are not eligible to obtain, social security numbers can apply for this number on Form W-7. Taxpayers may use this number when required to furnish a taxpayer identifying number under regulations. An ITIN is intended for tax use only.

Respondents: Individuals or Households.

Estimated Number of Respondents: 500,000.

Estimated Burden Hours Respondent: 1 hour 26 minutes.

Frequency of response: Other Individuals file once to get ITIN.

Estimated Total Reporting Burden: 715,000 hours.

OMB Number: 1545-1548.

Form Number: Rev. Proc. 2003-45.

Type of Review: Revision.

Title: Revenue Procedure 2003-45 Late Election Relief for S Corporation; Revenue Procedure 2004-48, Deemed Corporate Election for Late Electing S Corporations.

Description: The IRS will use the information provided by taxpayers under this revenue procedure to determine whether relief should be granted for the relevant late election.

Respondents: Business or other for-profit.

Estimated Number of Respondents: 50,000.

Estimated Burden Hours Respondent: 1 hour.

Frequency of response: On Occasion.

Estimated Total Reporting Burden: 50,000 hours.

OMB Number: 1545-1632.

Form Number: REG-118662-98 Final.

Type of Review: Extension.

Title: REG-118662-98 (Final) New Technologies in Retirement Plans.

Description: These regulations provide that certain notices and consents required in connection with distributions from retirement plans may be transmitted through electronic media. The regulations also modify the timing requirements for provision of certain distribution-related notices.

Respondents: Individuals or Households, Business or Other for-profit, Not-for-profit institutions, and State, Local or Tribal Government.

Estimated Number of Respondents: 375,000.

Estimated Burden Hours Respondent: 1 hour.

Frequency of response: On Occasion.

Estimated Total Reporting Burden: 477,563 hours.

Clearance Officer: R. Joseph Durbala (202) 622-3634. Internal Revenue Service, Room 6516, 1111 Constitution Avenue, NW., Washington, DC 20224.

OMB Reviewer: Joseph F. Lackey, Jr. (202) 395-7316, Office of Management and Budget, Room 10235, New Executive Office Building, Washington, DC 20503.

Christopher Davis,
Treasury PRA Assistant.

[FR Doc. 05-4438 Filed 3-7-05; 8:45 am]

BILLING CODE 4830-01-P